DEPARTMENT OF DEFENSE

Office of the Secretary

[Docket ID: DOD-2011-HA-0019]

Proposed Collection; Comment Request

AGENCY: Office of the Assistant Secretary of Defense for Health Affairs, DoD.

ACTION: Notice.

SUMMARY: In compliance with Section 3506(c)(2)(A) of the Paperwork Reduction Act of 1995, the Office of the Assistant Secretary of Defense for Health Affairs announces a proposed new public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by April 18, 2011.

ADDRESSES: You may submit comments, identified by docket number and title, by any of the following methods:

• Federal eRulemaking Portal: http://www.regulations.gov. Follow the instructions for submitting comments.

• Mail: Federal Docket Management System Office, Mailroom 3C843, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of Strategy Management (OSM)/OASD/HA TMA, ATTN: Dr. Michael Dinneen, 5111 Leesburg Pike, Suite 601, Falls Church, VA 22041-3206, or call OSM, Office of Strategy Management, at 703-681-1703.

Title; Associated Form; and OMB Number: Electronic Health Record (EHR) Usability Survey; OMB Control Number 0720-TBD.

Needs and Uses: The intended use of the information collection is to develop a longitudinal measure of how end-users perceive the usability of the Department of Defense (DoD) suite of Electronic Health Record (EHR) applications.

Until recently, understanding the performance of EHR systems focused on functionality and user satisfaction. Now the focus has shifted towards understanding the usability of a system. This usability attribute describes the ease with which people can use the system to achieve a goal, and consists of three measurable components: efficiency, effectiveness, and satisfaction.

As the Military Health Systems (MHS) moves towards developing the next generation of EHR applications, it is important to obtain baseline usability data of our current suite of applications and be able to monitor changes over time as the new EHR is deployed. Over the next five years, the DoD will make a significant investment to deliver a new EHR solution and it will be important to accurately assess the benefits realized as a result of this investment.

Affected Public: MTF contractor providers and support staff.

Annual Burden Hours: 628.

Number of Respondents: 942.

Responses per Respondent: 4.

Average Burden per Response: 10 minutes.

Frequency: Quarterly.

SUPPLEMENTARY INFORMATION:

Summary of Information Collection

Respondents are contracted medical professionals and support staff who utilize the current EHR systems. The survey will be administered via a MHS/DoD platform that will capture response data internally. The survey will be administered via an online tool on a quarterly basis to a selected population sample of users. The respondents will only be included in the population sample once per twelve month period to minimize response bias and burden. The population sample will receive a pre-notification, and reminder notifications to encourage participation.

Dated: February 10, 2011.
Morgan F. Park,
Alternate OSD Federal Register Liaison Officer, Department of Defense.

[FR Doc. 2011-3333 Filed 2-14-11; 8:45 am]

BILLING CODE 5001-06-P